DEPARTMENT OF COMMERCE

International Trade Administration

[A-588-702]

Notice of Rescission of Changed Circumstances Antidumping Duty Administrative Review: Certain Stainless Steel Butt-Weld Pipe and Tube Fittings from Japan

AGENCY: Import Administration, International Trade Administration, Department of Commerce.

ACTION: Notice of Rescission of Changed Circumstances Antidumping Duty Administrative Review.

DATES: EFFECTIVE DATE: August 19, 2002.

FOR FURTHER INFORMATION CONTACT: Jack K. Dulberger or Tom F. Futtner, AD/CVD Enforcement, Group II, Office 4, Import Administration, International Trade Administration, U.S. Department of Commerce, 14th Street and Constitution Avenue, NW, Washington, DC 20230; telephone: (202) 482-5505 or (202) 482-3814, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to the regulations at 19 CFR Part 351 (2002).

Background

On March 25, 1988, the Department published in the Federal Register an antidumping order on Certain Stainless Steel Butt-Weld Pipe and Tube Fittings (SSPF) from Japan. See Antidumping Duty Order of Sales at Less Than Fair Value: Certain Stainless Steel Butt-Weld Pipe and Tube Fittings from Japan, 53 FR 9787. On April 19, 2002, Benex submitted a letter requesting that the Department conduct an expedited changed circumstances review, pursuant to 19 CFR 351.216(e). On June 3, 2002, the Department initiated a changed circumstances review on Certain Stainless Steel Butt-Weld Pipe and Tube Fittings (SSPF) from Japan. See Notice of Initiation of Changed Circumstances Antidumping Duty Administrative Review: Certain Stainless Steel Butt-Weld Pipe and Tube Fittings from Japan, 67 FR 39676. On July 24, 2002, Benex requested the Department's permission to withdraw without prejudice its request for a changed circumstances review.

Rescission of Changed Circumstances Review

19 CFR 351.213(d)(1) of the Department's regulations provides that the Department will rescind an administrative review if a party that requested a review withdraws the request within ninety days of the date of publication of the notice of initiation of the requested review. The Department's rules regarding review withdrawals do not specifically reference changed circumstances administrative reviews. In this case, Benex requested withdrawal of its changed circumstances review within ninety days of the review being initiated, the time period the Department generally considers reasonable for requesting the withdrawal of administrative reviews. Therefore, the Department has accepted Benex's withdrawal request in this case as timely.

The Department is now rescinding this changed circumstances antidumping duty administrative review. The U.S. Customs Service will continue to suspend entries of subject merchandise at the appropriate cash deposit rate for all entries of certain stainless steel butt-weld pipe and tube fittings from Japan.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: August 13, 2002.
Holly A. Kuga,
Acting Deputy Assistant Secretary for Import Administration.

[FR Doc. 02-21015 Filed 8-16-02; 8:45 am]

BILLING CODE 3510-DS-S